DEPARTMENT OF ENERGY

National Nuclear Security Administration

Notice of Availability of Final Environmental Impact Statement for Plutonium Pit Production at the Savannah River Site in South Carolina

AGENCY: National Nuclear Security Administration, Department of Energy.

ACTION: Notice of availability.

SUMMARY: The National Nuclear Security Administration (NNSA), a semi-autonomous agency within the United States (U.S.) Department of Energy (DOE), announces the availability of the Final Environmental Impact Statement (EIS) for Plutonium Pit Production at the Savannah River Site (SRS) in South Carolina (SRS Pit Production EIS) (DOE/EIS-0541). NNSA prepared the Final EIS to evaluate the potential environmental impacts of producing a minimum of 50 war reserve pits per year at SRS and developing the ability to implement a short-term surge capacity to enable NNSA to meet the requirements of producing pits at a rate of no fewer than 80 war reserve pits per year beginning during 2030 for the nuclear weapons stockpile.

DATES: NNSA will not issue any Record of Decision (ROD) on the proposal for a minimum of 30 days after the date that the U.S. Environmental Protection Agency (EPA) publishes its Notice of Availability (NOA) in the Federal Register.

ADDRESSES: Requests for additional information related to the EIS should be sent to Ms. Jennifer Nelson, NEPA Document Manager, National Nuclear Security Administration, Savannah River Field Office, P.O. Box A, Aiken, SC 29802; or sent by email to NEPA-SRS@srs.gov. The Final SRS Pit Production EIS is available on the internet at: https://www.energy.gov/nnsa/nnsa-nepareading-room and https://www.energy.gov/nepa/listings/latestdocuments-and-notices.

FOR FURTHER INFORMATION CONTACT: For further information about this Notice, contact: Ms. Jennifer Nelson, NEPA Document Manager, National Nuclear Security Administration Savannah River Field Office, P.O. Box A, Aiken, SC 29802; phone: (803) 557-6372 or (803) 557-NEPA; or email: NEPA-SRS@srs.gov.

SUPPLEMENTARY INFORMATION: National security policies require DOE, through NNSA, to maintain the United States' nuclear weapons stockpile, as well as the nation's core competencies in nuclear weapons. NNSA has the mission to maintain and enhance the safety, security, and effectiveness of the nuclear weapons stockpile. Plutonium pits are critical components of every nuclear weapon, with nearly all current stockpile pits having been produced from 1978-1989. Today, the United States' capability to produce plutonium pits is limited.

Since 2014, Federal law has required the Secretary of Energy to produce no less than 30 war reserve plutonium pits during 2026 and now requires that the nuclear security enterprise produces not less than 80 pits per year during 2030 (50 U.S.C. 2538a). NNSA's pit production mission was emphasized as a national security imperative by the 2018 Nuclear Posture Review, issued in February 2018 by the Office of the Secretary of Defense and subsequent Congressional statements of the policy of the United States. The 2018 Nuclear Posture Review announced that the United States will pursue initiatives to ensure the necessary capability, capacity, and responsiveness of the nuclear weapons infrastructure and the needed skill of the workforce, including providing the enduring capability and capacity to produce no fewer than 80 pits per year beginning no later than during 2030. The 2018 Nuclear Posture Review concludes that the United States must have sufficient research, design, development, and production capacity to support the sustainment of its nuclear forces.

To that end, DoD Under Secretary of Defense for Acquisition and Sustainment and Under Secretary for Nuclear Security and Administrator of the NNSA issued a Joint Statement on May 10, 2018, describing NNSA's recommended alternative to meet the pit production requirement based on the completion of an Analysis of Alternatives, an Engineering Assessment and a Workforce Analysis. To achieve the nation's requirement of producing no fewer than 80 pits per year beginning no later than during 2030, NNSA has proposed to repurpose the Mixed-Oxide Fuel Fabrication Facility (MFFF) at SRS to produce plutonium pits while also maximizing pit production activities at the Los Alamos National Laboratory (LANL). This two-prong (two-site) approach—with a minimum of 50 pits per year produced at SRS and a minimum of 30 pits per year at LANL—is considered the best way to manage the cost, schedule, and risk of such a vital undertaking. This approach improves the resiliency, flexibility, and redundancy of our Nuclear Security Enterprise by reducing reliance on a single production site.

The SRS Pit Production EIS is an important element of the overall National Environmental Policy Act (NEPA) strategy related to fulfilling national requirements for pit production, which NNSA announced on June 10, 2019 (84 FR 26849). In that announcement, NNSA stated that it would prepare at least three documents, including this SRS Pit Production EIS.

On April 3, 2020, NNSA electronically published the Draft SRS Pit Production EIS and published an NOA in the Federal Register announcing a 45-day public comment period for the Draft EIS (85 FR 18947). EPA also published its NOA of the Draft SRS Pit Production EIS on April 3, 2020 (85 FR 18957). The comment period was scheduled to end on May 18, 2020. On April 23, 2020, NNSA notified the EPA that it was extending the comment period until June 2, 2020. On May 1, 2020, the EPA published a notice in the Federal Register that announced the extension to the public comment period (85 FR 25436).

In light of the Coronavirus Disease 2019 (COVID-19) national emergency and guidance from the Centers for Disease Control and Prevention on public gatherings, NNSA held an internet-based (with telephone access) virtual public hearing in place of an in-person hearing. The virtual public hearing was held on April 30, 2020. In addition to the public hearing, the public was encouraged to provide comments via U.S. postal mail or electronically via email. Approximately 400 comment documents were received from individuals, interested groups, and Federal, State, and local agencies during the public comment period on the Draft EIS.

In the Final SRS Pit Production EIS, NNSA evaluates the potential impacts to the environment and human health from the following alternatives: (1) Proposed action to repurpose MFFF to produce a minimum of 50 pits per year; and (2) No-Action Alternative. NNSA considered all comments received on the Draft EIS in preparing the Final EIS and revised the Draft EIS to incorporate changes as a result of public comments. In addition, NNSA updated the Final EIS to describe and analyze evolution of the details associated with the Proposed Action. The Final EIS also includes NNSA's responses to all comments received.

NNSA will consider the environmental impact analysis presented in the Final SRS Pit Production EIS, along with other information, in making decisions regarding plutonium pit production at SRS. NNSA will not issue any ROD on the proposal for a minimum of 30 days after the date that EPA publishes its NOA in the Federal Register. NNSA will publish any ROD in the Federal Register.

Signing Authority

This document of the Department of Energy was signed on September 18, 2020, by Lisa E. Gordon-Hagerty, Under Secretary for Nuclear Security and Administrator, NNSA, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 22, 2020.
Treena V. Garrett,
Federal Register Liaison Officer, U.S. Department of Energy.

[FR Doc. 2020-21606 Filed 9-29-20; 8:45 am]

BILLING CODE 6450-01-P